FEDERAL COMMUNICATIONS COMMISSION

[FR ID: 256495]

Privacy Act of 1974; System of Records

AGENCY: Federal Communications Commission.

ACTION: Notice of a modified system of records.

SUMMARY: The Federal Communications Commission (FCC, Commission, or Agency) has modified an existing system of records, FCC/OET-2, Equipment Authorization Electronic Filing System (EAS) (formerly “Equipment Authorization Records and Files”), subject to the Privacy Act of 1974, as amended. This action is necessary to meet the requirements of the Privacy Act to publish in the Federal Register notice of the existence and character of records maintained by the Agency. The FCC's Office of Engineering and Technology (OET) uses the information in this system to verify that radio frequency equipment proposed for marketing complies with FCC requirements and to determine the interference potential of radio frequency equipment proposed for marketing.

DATES: This modified system of records will become effective on October 25, 2024. Written comments on the routine uses are due by November 25, 2024. The routine uses in this action will become effective on November 25, 2024 unless comments are received that require a contrary determination.

ADDRESSES: Send comments to Brendan McTaggart, Federal Communications Commission (FCC), 45 L Street NE, Washington, DC 20554, or to privacy@fcc.gov.

FOR FURTHER INFORMATION CONTACT: Brendan McTaggart, (202) 418-1738, or privacy@fcc.gov.

SUPPLEMENTARY INFORMATION: This notice serves to update and modify FCC/OET-2 as a result of various necessary changes and updates. The substantive changes and modifications to the previously published version of the FCC/OET-2 system of records include:

1. Renaming the system “Equipment Authorization Electronic Filing System (EAS)”;

2. Updating the Authority, Purpose, Categories of Individuals, and Record Source Categories of this system for accuracy and clarity;

3. Adding three new routines (listed by the routine use number provided in this notice): (7) Breach Notification, the addition of which is as required by OMB Memorandum No. M-17-12; (8) Assistance to Federal Agencies and Entities Related to Breaches, the addition of which is required by OMB Memorandum No. M-17-12; and (9) Non-Federal Personnel;

4. Updating and/or revising language in five routine uses (listed by the routine use number provided in this notice): (2) Litigation and (3) Adjudication (now two separate routine uses); (4) Law Enforcement and Investigation; (5) Congressional Inquiries; and (6) Government-wide Program Management and Oversight;

5. Updating the SORN to include the relevant National Archives and Records Administration (NARA) Records Schedule, DAA-0173-2019-0001, Office of Engineering and Technology—Laboratory Division Records.

The system of records is also updated to reflect various administrative changes related to the system managers and system addresses; policy and practices for storage and retrieval of the information; administrative, technical, and physical safeguards; and updated notification, records access, and contesting records procedures.

SYSTEM NAME AND NUMBER:

FCC/OET-2, Equipment Authorization Electronic Filing System (EAS).

SECURITY CLASSIFICATION:

Unclassified.

SYSTEM LOCATION:

OET, Laboratory Division, Federal Communications Commission (FCC), 7435 Oakland Mills Road, Columbia, MD 21046.

SYSTEM MANAGER:

Chief, Laboratory Division, OET, FCC, 7435 Oakland Mills Road, Columbia, MD 21046.

AUTHORITY FOR MAINTENANCE OF THE SYSTEM:

47 U.S.C. 302a; 47 U.S.C. 1601 note.

PURPOSES OF THE SYSTEM:

The records in this system document the compliance with FCC requirements and interference potential of radio frequency equipment proposed for marketing. The system also permits the FCC to collect and maintain information necessary for FCC staff to perform key activities, including analyzing the effectiveness and efficiency of FCC programs and informing rule-making and policy-making activities.

CATEGORIES OF INDIVIDUALS COVERED BY THE SYSTEM:

Individuals who have applied for or been granted an authorization to market radio frequency equipment, in accordance with Part 2 of the Federal Communications Commission's (FCC) rules; individuals who are responsible for testing and determining compliance of the equipment that is subject to the relevant authorization; and individuals responsible for assessing, accrediting, and designating those individuals responsible for testing and determining compliance of equipment.

CATEGORIES OF RECORDS IN THE SYSTEM:

1. FCC Form 731, Application for Equipment Authorization, and any exhibits, test reports, and other supporting documentation submitted by an applicant that demonstrates compliance with the rules for radio frequency equipment.

2. Entity management information (collected by webform) and attachments regarding accrediting bodies, designating authorities, and conformity assessment bodies (which includes both Telecommunication Certification Bodies (TCBs) and test labs).

RECORD SOURCE CATEGORIES:

Information in this system is supplied by individuals applying to receive equipment authorization, individuals who are responsible for testing and determining compliance of the equipment that is subject to the relevant authorization, and individuals responsible for assessing, accrediting, and designating those individuals who are responsible for testing and determining compliance of equipment.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may routinely be disclosed as follows:

1. Public Access—Information from this system related to granted equipment authorizations or any individuals associated with entities covered by this system may be disclosed to the public if it is routinely available for public inspection under 47 CFR 0.457(d)(1)(ii) and a request has not been made or granted to give the information confidential treatment under 47 CFR 0.459. Pending equipment authorization requests are specifically excluded from disclosure prior to the effective date of the authorization, as specified in 0.457(d)(1)(ii).

2. Litigation—Records may be disclosed to the Department of Justice (DOJ) when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the Department of Justice is for a purpose that is compatible with the purpose for which the FCC collected the records.

3. Adjudication—Records may be disclosed in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

4. Law Enforcement and Investigation—When the FCC investigates any violation or potential violation of a civil or criminal law, regulation, policy, executed consent decree, order, or any other type of compulsory obligation and determines that a record in this system, either alone or in conjunction with other information, indicates a violation or potential violation of law, regulation, policy, consent decree, order, or other compulsory obligation, the FCC may disclose pertinent information as it deems necessary to the target of an investigation, as well as with the appropriate Federal, state, local, Tribal, international, or multinational agencies, or a component of such an agency, responsible for investigating, prosecuting, enforcing, or implementing a statute, rule, regulation, or order.

5. Congressional Inquiries—Records may be provided to a Congressional office in response to an inquiry from that Congressional office made at the written request of that individual to whom the records pertain.

6. Government-wide Program Management and Oversight—Records may be disclosed to DOJ to obtain that department's advice regarding disclosure obligations under the Freedom of Information Act (FOIA); or to the Office of Management and Budget (OMB) to obtain that office's advice regarding obligations under the Privacy Act.

7. Breach Notification—Records may be disclosed to appropriate agencies, entities, and persons when: (a) The Commission suspects or has confirmed that there has been a breach of the system of records; (b) the Commission has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

8. Assistance to Federal Agencies and Entities Related to Breaches—Records may be disclosed to another Federal agency or Federal entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

9. Non-Federal Personnel—Records may be disclosed to non-Federal personnel, including contractors, other vendors (e.g., identity verification services), grantees, and volunteers who have been engaged to assist the FCC in the performance of a service, grant, cooperative agreement, or other activity related to this system of records and who need to have access to the records in order to perform their activity.

POLICIES AND PRACTICES FOR STORAGE OF RECORDS:

This an electronic system of records that resides on the FCC or a vendor's network.

POLICIES AND PRACTICES FOR RETRIEVAL OF RECORDS:

Scanned images, electronic records of data elements, and electronic copies of granted equipment authorizations, as well as information about individuals associated with entities covered by the system, may be retrieved from the OET EAS website at https://apps.fcc.gov/tcb/TcbHome.do by clicking on the desired link in the Reports section on the left hand side of the page. Records may be retrieved using a variety of parameters.

POLICIES AND PRACTICES FOR RETENTION AND DISPOSAL OF RECORDS:

The information in this system is maintained and disposed of in accordance with NARA Records Schedule DAA-0173-2019-0001, Office of Engineering and Technology—Laboratory Division Records.

ADMINISTRATIVE, TECHNICAL, AND PHYSICAL SAFEGUARDS:

OET makes all records, documents, and files available to the public except: (1) files that are not routinely available for public inspection as defined in 47 CFR 0.457(d)(1)(ii); and/or (2) files that have been submitted in compliance with the confidentiality request requirement of 47 CFR 0.459. When not publicly available, the electronic records, files, and data are stored within FCC or a vendor's accreditation boundaries and maintained in a database housed in the FCC's or vendor's computer network databases. Access to the electronic files is restricted to authorized employees and contractors; and to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), the Office of Management and Budget (OMB), and the National Institute of Standards and Technology (NIST).

RECORDS ACCESS PROCEDURES:

Individuals wishing to request access to and/or amendment of records about themselves should follow the Notification Procedures below.

CONTESTING RECORD PROCEDURES:

Individuals wishing to request an amendment of records about themselves should follow the Notification Procedures below.

NOTIFICATION PROCEDURES:

Individuals wishing to determine whether this system of records contains information about themselves may do so by writing to privacy@fcc.gov. Individuals requesting access must also comply with the FCC's Privacy Act regulations regarding verification of identity to gain access to the records (47 CFR part 0, subpart E).

EXEMPTIONS PROMULGATED FOR THE SYSTEM:

None.

HISTORY:

65 FR 17242 (April 5, 2006).

Federal Communications Commission.
Marlene Dortch,
Secretary.

[FR Doc. 2024-24893 Filed 10-24-24; 8:45 am]

BILLING CODE 6712-01-P